DEPARTMENT OF EDUCATION

Notice of Proposed Information Collection RequestsNPEFS 2011-2014: Common Core of Data (CCD) National Public Education Financial Survey

AGENCY: Institute of Education Sciences, Department of Education.

SUMMARY: The National Public Education Financial Survey (NPEFS) is an annual collection of state-level finance data which provides function expenditures by salaries, benefits, purchased services, and supplies, and includes Federal, State, and local revenues by source.

DATES: Interested persons are invited to submit comments on or before September 18, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04890. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: NPEFS 2011-2014: Common Core of Data (CCD) National Public Education Financial Survey.

OMB Control Number: 1850-0067.

Type of Review: Revision.

Total Estimated Number of Annual Responses: 56.

Total Estimated Number of Annual Burden Hours: 5,264.

Abstract: The NPEFS has been included in the National Center for Education Statistics' Common Core of Data since FY 1982 (school year 1981-82). The NPEFS collection includes data on all state-run schools from the 50 states, the District of Columbia, American Samoa, the Northern Mariana Islands, Guam, Puerto Rico, and the Virgin Islands. NPEFS data are used for a wide variety of purposes, including to calculate federal program allocations such as states' “average per-pupil expenditure” (SPPE) for elementary and secondary education, certain formula grant programs (e.g. Title I, Part A of the Elementary and Secondary Education Act of 1965 (ESEA) as amended, Impact Aid, and Indian Education programs). Furthermore, other federal programs, such as the Educational Technology State Grants program (Title II Part D of the ESEA), the Education for Homeless Children and Youth Program under Title VII of the McKinney-Vento Homeless Assistance Act, and the Teacher Quality State Grants program (Title II Part A of the ESEA) make use of SPPE data indirectly because their formulas are based, in whole or in part, on State Title I Part A allocations. No changes have been made to the NPEFS since its last OMB approval in January 2012. This submission is to conduct the annual collection of state-level finance data for FY 2012-2014.

Dated: July 17, 2012.
Darrin A. King,
Director, Information Collection Clearance Division, Privacy, Information and Records Management Services, Office of Management.

[FR Doc. 2012-17743 Filed 7-19-12; 8:45 am]

BILLING CODE 4000-01-P